DEPARTMENT OF AGRICULTURE

Agricultural Marketing Service

7 CFR Part 1218

[Doc. No. FV-06-702-Notice]

Blueberry Promotion, Research, and Information Order; Continuance Referendum

AGENCY: Agricultural Marketing Service, Agriculture.

ACTION: Notice of a Continuance Referendum.

SUMMARY: This notice directs that a referendum be conducted among the eligible producers and importers of blueberries to determine whether they favor continuance of the Blueberry Promotion, Research, and Information Order (Order).

DATES: This referendum will be conducted from August 1, 2006 through August 22, 2006. To vote in this referendum, producers and importers must have paid assessments on blueberries produced or imported during the representative period of November 1, 2004 through October 31, 2005.

ADDRESSES: Copies of the Order may be obtained from: Referendum Agent, Research and Promotion Branch (RP), Fruit and Vegetable Programs (FV), AMS, USDA, Stop 0244, Room 2535-S, 1400 Independence Avenue, SW., Washington, DC 20250-0244, telephone 888-720-9917 (toll free). Fax 202-205-2800, e-mail deborah.simmons@usda.gov.

SUPPLEMENTARY INFORMATION: Pursuant to the Commodity Promotion, Research, and Information Act of 1996 (Pub. L. 104-427, 7 U.S.C. 7401-7425) (Act), a referendum is to be conducted not later than seven years after assessments first begin under an order to ascertain whether continuance of the Order is favored by producers and importers of blueberries. The Order is authorized under the Act.

The initial referendum was conducted during the period of March 13 through April 14, 2000. The final results of the initial referendum were that 67.84 percent of the voters in the referendum favored implementation of the Order. Those voting in favor represented 73.15 percent of the volume represented in the referendum. Therefore, the Order became effective July 17, 2000.

Under § 1218.71 of the Order, the Department of Agriculture (Department) is authorized to conduct a referendum every five years or when 10 percent or more of the eligible voters petition the Secretary of Agriculture to hold a referendum to determine if persons subject to assessment favor continuance of the Order. The Department would continue the Order if continuance of the Order is approved by a majority of the producers and importers voting in the referendum who also represent a majority of the volume of blueberries produced or imported during the representative period determined by the Secretary.

The representative period for establishing voter eligibility for the referendum shall be the period from November 1, 2004 through October 31, 2005. Persons who are producers and importers of blueberries and paid assessments during the representative period are eligible to vote. Persons who received an exemption from assessments for the entire representative period are ineligible to vote. The referendum shall be conducted by mail from August 1, 2006 through August 22, 2006.

In accordance with the Paperwork Reduction Act of 1995 (44 U.S.C. Chapter 35), the referendum ballot has been approved by the Office of Management and Budget (OMB) and assigned OMB No. 0581-0093. It is estimated that there are approximately 1,586 producers and 135 importers who will be eligible to vote in the referendum. It will take an average of 25 minutes for each voter to read the voting instructions and complete the referendum ballot.

Referendum Order

Deborah S. Simmons, Marlene M. Betts and Margaret B. Irby, RP, FV, AMS, USDA, Stop 0244, Room 2535-S, 1400 Independence Avenue, SW., Washington, DC 20250, are designated as the referendum agents to conduct this referendum. The referendum procedures 7 CFR 1218.100 through 1218.107, which were issued pursuant to the Act, shall be used to conduct the referendum.

The referendum agents will mail the ballots to be cast in the referendum and voting instructions to all known producers and importers prior to the first day of the voting period. Persons who are producers and importers and who paid assessments during the representative period are eligible to vote. Ballots must be received by the referendum agent beginning August 1, 2006, through 4:30 p.m., Eastern Daylight Savings Time, August 22, 2006, in order to be counted.

Authority: 7 U.S.C. 7401-7425.

Dated: May 22, 2006.
Lloyd C. Day,
Administrator, Agricultural Marketing Service.

[FR Doc. E6-8101 Filed 5-25-06; 8:45 am]

BILLING CODE 3410-02-P